DEPARTMENT OF DEFENSE

Office of the Secretary

[Docket ID: DoD-2023-OS-0071]

Proposed Collection; Comment Request

AGENCY: Office of the Under Secretary of Defense for Personnel and Readiness (OUSD(P&R)), Department of Defense (DoD).

ACTION: 60-Day information collection notice.

SUMMARY: In compliance with the Paperwork Reduction Act of 1995, the Undersecretary of Defense for Personnel and Readiness announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 20, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to CNA Corporation (Center for Naval Analyses), 3003 Washington Blvd., Arlington, VA, Neil Carey, Ph.D., careyn@cna.org, 703-955-6415.

SUPPLEMENTARY INFORMATION:

Title; Associated Form; and OMB Number: Overcoming Barriers to Safe Firearms Storage Among Different Groups; OMB Control Number 0704-OBFS.

Needs and Uses: The Defense Suicide Prevention Office (DSPO) has contracted with Center for Naval Analyses (CNA) to conduct a study titled “Overcoming Barriers to Safe Firearms Storage Among Different Groups.” The goal of the study is to assist the services in meeting the requirements set forth in Department of Defense (DoD) Instruction 6490.16 that all suicide prevention activities are developed from a relevant evidence-base and have an evaluation capability prior to implementation. DSPO wants to craft safe firearm storage messages that will be persuasive to servicemembers of varying races and genders in response to changing demographics of firearm owners and suicides completed using a firearm in the civilian sector. To do so, CNA has developed a survey that will address the following issues:

• What are the barriers to safe firearm storage practices among different groups?

• Do different demographic groups respond to messages differently, and if so, how should messaging be targeted? For example, would these servicemembers respond more positively if their demographic group were featured in safety appeals?

• What principles could be introduced to OSD lethal means safety messaging to make it better resonate across demographic groups?

This survey will provide unique information to help DoD (a) determine what attitudinal and other barriers prevent service members from adopting safe firearms storage practices, (b) decide which aspects of a safe storage message are most persuasive in overcoming those barriers, and (c) learn whether female and black service members respond differently to safe storage messaging. The findings from the survey will support DoD Instruction 6400.09's instruction to focus suicide prevention efforts on research-based programs, policies, and practices. They will also assist in executing data-informed actions to reduce and stop self-directed harm (Section 1.2.b), promoting an understanding of lethal means safety among the military community (Section 4.3.b), and addressing the needs of high-risk groups (Section 4.7.a.).

Affected Public: Individuals or households.

Annual Burden Hours: 375.

Number of Respondents: 1,500.

Responses per Respondent: 1.

Annual Responses: 1,500.

Average Burden per Response: 15 minutes.

Frequency: Once.

Dated: August 15, 2023.
Natalie M. Ragland,
Alternate OSD Federal Register Liaison Officer, Department of Defense.

[FR Doc. 2023-17870 Filed 8-18-23; 8:45 am]

BILLING CODE 5001-06-P